DEPARTMENT OF THE INTERIOR

Fish and Wildlife Service

Emergency Exemption: Issuance of Permit for Endangered Species

AGENCY: Fish and Wildlife Service, Interior.

ACTION: Notice of emergency issuance of permit for endangered species.

SUMMARY: The following permit was issued.

ADDRESSES: Documents and other information submitted for this application are available for review, subject to the requirements of the Privacy Act and Freedom of Information Act, by any party who submits a written request for a copy of such documents to: U.S. Fish and Wildlife Service, Division of Management Authority, 4401 North Fairfax Drive, Room 700, Arlington, Virginia 22203, telephone 703/358-2104 or fax 703/358-2281.

FOR FURTHER INFORMATION CONTACT: Division of Management Authority, telephone 703/358-2104.

SUPPLEMENTARY INFORMATION: On July 28, 2005, the U.S. Fish and Wildlife Service (Service) issued a permit (PRT-108841) to the Virginia Polytechnic Institute and State University (CVM Phase 2), Blacksburg, Virginia, to import biological samples from wild chimpanzees (Pan troglodytes) in Tanzania for the purpose of scientific research. This action was authorized under Section 10(c) of the Endangered Species Act of 1973, as amended (16 U.S.C. 1531 et seq.). The Service determined that an emergency affecting the health and life of the chimpanzees at the Mahale Mountains National Park in Kigoma, Tanzania, existed and that no reasonable alternative was available to the applicant for the following reasons.

Virginia Polytechinic Institute and State University requested a permit to import biological samples (bodily tissues and organs, hair, saliva, and other body parts) from the forest floor and from deceased animals found in the Mahle Mountains National Park in Tanzania for emergency and ongoing health and disease evaluation purposes. Samples will be utilized exclusively for diagnostic and scientific purposes. The specimens will be used to run diagnostics tests to determine the cause of death of several animals that have died during an ongoing disease outbreak at the National Park within the past several weeks. The necessary diagnostic testing is not available in Africa. The results of health and disease testing from these chimpanzees will help determine why the animals are sick and what caused the outbreak in order to develop interventions to help prevent reoccurrence.

Dated: July 29, 2005.
Monica Farris,
Senior Permit Biologist, Branch of Permits, Division of Management Authority.

[FR Doc. 05-15712 Filed 8-8-05; 8:45 am]

BILLING CODE 4310-55-P